DEPARTMENT OF THE TREASURY

United States Mint

Privacy Act of 1974; Systems of Records

AGENCY: United States Mint, Treasury.

ACTION: Notice of systems of records.

SUMMARY: In accordance with the requirements of the Privacy Act of 1974, as amended, 5 U.S.C. 552a, the United States Mint, Treasury, is publishing its inventory of Privacy Act systems of records.

SUPPLEMENTARY INFORMATION: Pursuant to the Privacy Act of 1974 (5 U.S.C. 552a) and the Office of Management and Budget (OMB), Circular No. A-130, the United States Mint has completed a review of its Privacy Act systems of records notices to identify changes that will more accurately describe these records. The systems of records were last published in their entirety on July 22, 2008, at 73 FR 42662-42670.

The changes throughout the document are editorial in nature and reflect non-substantive updates to the United States Mint's management and retention of records.

Systems Covered by This Notice

This notice covers all systems of records maintained by the United States Mint as of January 8, 2013. The system notices are reprinted in their entirety following the Table of Contents.

Veronica Marco,
Acting Deputy Assistant Secretary for Privacy, Transparency, and Records.

Table of Contents

United States Mint

UNITED STATES MINT .001—Cash Receivable Accounting Information System.

UNITED STATES MINT .003—Employee and Former Employee Travel and Training Accounting Information System.

UNITED STATES MINT .004—Occupational Safety and Health, Accident and Injury Records, and Claims for Injuries or Damage Compensation Records.

UNITED STATES MINT .005—Employee-Supervisor Performance Evaluation, Counseling, and Time and Attendance Records.

UNITED STATES MINT .007—General Correspondence.

UNITED STATES MINT .008—Employee Background Investigations Files.

UNITED STATES MINT .009—Retail Sales System (RSS); Customer Mailing List; Order Processing Records for Coin Sets, Medals and Numismatic Items; Records of Undelivered Orders; and Product Descriptions, Availability and Inventory.

UNITED STATES MINT .012—Union and Agency Negotiated Grievances; Adverse Personnel Actions; Discrimination Complaints; Complaints and Actions before Arbitrators, Administrative Tribunals and Courts (Third Parties).

United States Mint

TREASURY/UNITED STATES MINT .001

SYSTEM NAME:

Cash Receivable Accounting Information System—Treasury/United States Mint.

SYSTEM LOCATIONS:

(1) United States Mint, 801 9th Street NW., Washington, DC 20220;

(2) United States Mint, 151 North Independence Mall East, Philadelphia, PA 19106;

(3) United States Mint, 320 West Colfax Avenue, Denver, CO 80204;

(4) United States Mint, 155 Hermann Street, San Francisco, CA 94102;

(5) United States Mint, West Point, NY 10996; and

(6) United States Bullion Depository, Fort Knox, KY 40121.

CATEGORIES OF INDIVIDUALS COVERED BY THE SYSTEM:

Employees and former employees of the United States Mint. Members of the public and United States Mint employees who have purchased numismatic items from the United States Mint.

CATEGORIES OF RECORDS IN THE SYSTEM:

(1) Receivables due from United States Mint employees, former employees, and the general public for lost Government property, salary overpayments, and sales of numismatic items; and

(2) Receivables due from United States Mint employees and former employees who have outstanding travel advances, salary advances, or leave advances (cash equivalents).

AUTHORITY FOR MAINTENANCE OF THE SYSTEM:

5 U.S.C. Chapter 55; 31 U.S.C. 5111(a)(3).

PURPOSES:

The purpose of this system is to permit the United States Mint to track and record the creation and payment of the financial obligations to the United States Mint reflected in the system.

ROUTINE USES OF RECORDS MAINTAINED IN THE SYSTEM, INCLUDING CATEGORIES OF USERS AND THE PURPOSES OF SUCH USES:

These records may be used to disclose information to:

(1) Accounting officers, managers, supervisors, and government officials with an official interest in cash receivables and debts owed the Government;

(2) Appropriate federal, state, local, or foreign agencies responsible for investigating or prosecuting the violations of, or for enforcing or implementing, a statute, rule, regulation, order, or license;

(3) A federal, state, or local agency that has requested information relevant or necessary to the requesting agency's or the bureau's hiring or retention of an employee or issuance of a security clearance, license, contract, grant, or other benefit;

(4) A court, magistrate, or administrative tribunal in the course of presenting evidence, including disclosures to opposing counsel or witnesses in the course of civil discovery, litigation, or settlement negotiations, in response to a court-ordered subpoena, or in connection with criminal law proceedings;

(5) Foreign governments in accordance with international agreements;

(6) A Congressional office in response to an inquiry made at the request of the individual to whom the record pertains;

(7) The news media, at the Department of Justice's direction or approval, in accordance with guidelines contained in 28 CFR 50.2, which relate to an agency's functions relating to civil and criminal proceedings;

(8) Unions recognized as exclusive bargaining representatives under the Civil Service Reform Act of 1978, 5 U.S.C. 7111 and 7114;

(9) Third parties during the course of an authorized criminal or administrative investigation to the extent necessary to obtain information pertinent to the investigation;

(10) To appropriate agencies, entities, and persons when (a) the United States Mint suspects or has confirmed that the security, confidentiality, or availability of information in the system of records has been compromised; (b) the United States Mint has determined that as a result of the suspected or confirmed compromise there is a risk of harm to economic or property interests, identity theft or fraud, or harm to the security or integrity of this system or other systems or programs (whether maintained by the United States Mint or another agency or entity) that rely upon the compromised information; and (c) the disclosure made to such agencies, entities, and persons is reasonably necessary to assist in connection with the United States Mint's efforts to respond to the suspected or confirmed compromise and prevent, minimize, or remedy such harm.

POLICIES AND PRACTICES FOR STORING, RETRIEVING, ACCESSING, RETAINING, AND DISPOSING OF RECORDS IN THE SYSTEM:

STORAGE:

Paper documents and electronic records.

RETRIEVABILITY:

Name or numeric identifier.

SAFEGUARDS:

Paper records are stored in secured filing cabinets with access only by authorized accounting personnel. Electronic records are stored in secured systems subject to access controls in accordance with Department of the Treasury and United States Mint policies and procedures. Access to electronic records is restricted to authorized personnel, and is subject to multiple controls including an access approval process, unique user identifier, user authentication and account management, and password management.

RETENTION AND DISPOSAL:

Records are maintained and disposed of in accordance with Government Accountability Office guidance, National Archives and Records Administration (NARA) regulations, and NARA-approved records retention schedules.

SYSTEM MANAGERS AND ADDRESSES:

(1) Chief Financial Officer, United States Mint, 801 9th Street NW., Washington, DC 20220;

(2) Plant Manager, United States Mint, 151 North Independence Mall East, Philadelphia, PA 19106;

(3) Plant Manager, United States Mint, 320 West Colfax Avenue, Denver, CO 80204;

(4) Plant Manager, United States Mint, 155 Hermann Street, San Francisco, CA 94102;

(5) Plant Manager, United States Mint, West Point, NY 10996; and

(6) Officer-in-Charge, United States Bullion Depository, Fort Knox, KY 40121.

NOTIFICATION PROCEDURE:

Requests from individuals wishing to be notified if they are currently named in this system of records, or seeking access to any record contained in the system of records, or seeking to contest its content, should be addressed to the head of the organizational unit having immediate custody of the records (See “System Managers and Addresses” above). Requests may be made in accordance with instructions appearing at 31 CFR Part 1, subpart C, appendix H. Requests for information or specific guidance on where to send records requests should be addressed to the following official: Disclosure Officer, United States Mint, 801 9th Street NW., Washington, DC 20220.

The individual must submit a written request containing identification, to include at least one of the following: (a) United States Federal employee identification; (b) driver's license; (c) officially notarized statement attesting or affirming to the individual's identity; or (d) other means of identification, such as Social Security number and date of birth.

RECORD ACCESS PROCEDURES:

See “Notification Procedure” above.

CONTESTING RECORD PROCEDURES:

See “NOTIFICATION PROCEDURE” above.

RECORD SOURCE CATEGORIES:

United States Mint employees and appropriate agency officials.

EXEMPTIONS CLAIMED FOR THE SYSTEM:

None.

TREASURY/UNITED STATES MINT .003

SYSTEM NAME:

Employee and Former Employee Travel and Training Accounting Information System—Treasury/United States Mint.

SYSTEM LOCATIONS:

(1) United States Mint, 801 9th Street NW., Washington, DC 20220;

(2) United States Mint, 151 North Independence Mall East, Philadelphia, PA 19106;

(3) United States Mint, 320 West Colfax Avenue, Denver, CO 80204;

(4) United States Mint, 155 Hermann Street, San Francisco, CA 94102;

(5) United States Mint, West Point, NY 10996; and

(6) United States Bullion Depository, Fort Knox, KY 40121.

CATEGORIES OF INDIVIDUALS COVERED BY THE SYSTEM:

Employees and former employees of the United States Mint who have engaged in travel and training.

CATEGORIES OF RECORDS IN THE SYSTEM:

(1) Schedule of Payments generated from the Electronic Certification System (ECS) with supporting documents such as Travel Voucher and Application and Account for Advance of Funds; (2) Travel Authority; and (3) Request, Authorization, Agreement and Certification of Training.

AUTHORITY FOR MAINTENANCE OF THE SYSTEM:

5 U.S.C. Chapters 41 and 57.

PURPOSES:

The purpose of this system is to permit the United States Mint to track and record the creation and payment of travel and training advances owed to the United States Mint.

ROUTINE USES OF RECORDS MAINTAINED IN THE SYSTEM, INCLUDING CATEGORIES OF USERS AND THE PURPOSES OF SUCH USES:

These records may be used to disclose information to:

(1) Accounting officers, managers, supervisors, and government officials with an official interest in cash receivables and debts owed the Government;

(2) Appropriate federal, state, local, or foreign agencies responsible for investigating or prosecuting the violations of, or for enforcing or implementing, a statute, rule, regulation, order, or license;

(3) A federal, state, or local agency that has requested information relevant or necessary to the requesting agency's or the bureau's hiring or retention of an employee or issuance of a security clearance, license, contract, grant, or other benefit;

(4) A court, magistrate, or administrative tribunal in the course of presenting evidence, including disclosures to opposing counsel or witnesses in the course of civil discovery, litigation, or settlement negotiations, in response to a court-ordered subpoena, or in connection with criminal law proceedings;

(5) Foreign governments in accordance with international agreements;

(6) A Congressional office in response to an inquiry made at the request of the individual to whom the record pertains;

(7) The news media, at the Department of Justice's direction or approval, in accordance with guidelines contained in 28 CFR 50.2, which relate to an agency's functions relating to civil and criminal proceedings;

(8) Unions recognized as exclusive bargaining representatives under the Civil Service Reform Act of 1978, 5 U.S.C. 7111 and 7114;

(9) Third parties during the course of an authorized criminal or administrative investigation;

(10) To appropriate agencies, entities, and persons when (a) the United States Mint suspects or has confirmed that the security, confidentiality, or availability of information in the system of records has been compromised; (b) the United States Mint has determined that as a result of the suspected or confirmed compromise there is a risk of harm to economic or property interests, identity theft or fraud, or harm to the security or integrity of this system or other systems or programs (whether maintained by the United States Mint or another agency or entity) that rely upon the compromised information; and (c) the disclosure made to such agencies, entities, and persons is reasonably necessary to assist in connection with the United States Mint's efforts to respond to the suspected or confirmed compromise and prevent, minimize, or remedy such harm.

POLICIES AND PRACTICES FOR STORING, RETRIEVING, ACCESSING, RETAINING, AND DISPOSING OF RECORDS IN THE SYSTEM:

STORAGE:

Paper documents and electronic records.

RETRIEVABILITY:

Name or numeric identifier.

SAFEGUARDS:

Paper records are stored in secured filing cabinets with access only by authorized personnel. Electronic records are stored in secured systems subject to access controls in accordance with Department of the Treasury and United States Mint policies and procedures. Access to electronic records is restricted to authorized personnel, and is subject to multiple controls including an access approval process, unique user identifier, user authentication and account management, and password management.

RETENTION AND DISPOSAL:

Records are maintained and disposed of in accordance with National Archives and Records Administration (NARA) regulations, and NARA-approved records retention schedules.

SYSTEM MANAGERS AND ADDRESSES:

(1) Chief Financial Officer, United States Mint, 801 9th Street NW., Washington, DC 20220;

(2) Plant Manager, United States Mint, 151 North Independence Mall East, Philadelphia, PA 19106;

(3) Plant Manager, United States Mint, 320 West Colfax Avenue, Denver, CO 80204;

(4) Plant Manager, United States Mint, 155 Hermann Street, San Francisco, CA 94102;

(5) Plant Manager, United States Mint, West Point, NY 10996; and

(6) Officer-in-Charge, United States Bullion Depository, Fort Knox, KY 40121.

NOTIFICATION PROCEDURE:

Requests from individuals wishing to be notified if they are currently named in this system of records, or seeking access to any record contained in the system of records, or seeking to contest its content, should be addressed to the head of the organizational unit having immediate custody of the records (See “System Managers and Addresses” above). Requests may be made in accordance with instructions appearing at 31 CFR Part 1, subpart C, appendix H. Requests for information or specific guidance on where to send records requests should be addressed to the following official: Disclosure Officer, United States Mint, 801 9th Street NW., Washington, DC 20220.

The individual must submit a written request containing identification, to include at least one of the following: (a) United States Federal employee identification; (b) driver's license; (c) officially notarized statement attesting to or affirming to the individual's identity; or (d) other means of identification, such as Social Security number and date of birth.

RECORD ACCESS PROCEDURES:

See “Notification Procedure” above.

CONTESTING RECORD PROCEDURES:

See “Notification Procedure” above.

RECORD SOURCE CATEGORIES:

United States Mint employees and appropriate agency officials.

EXEMPTIONS CLAIMED FOR THE SYSTEM:

None.

TREASURY/UNITED STATES MINT .004

SYSTEM NAME:

Occupational Safety and Health Accident and Injury Records; Claims for Injuries or Damage Compensation Records—Treasury/United States Mint.

SYSTEM LOCATIONS:

(1) United States Mint, 801 9th Street NW., Washington, DC 20220;

(2) United States Mint, 151 North Independence Mall East, Philadelphia, PA 19106;

(3) United States Mint, 320 West Colfax Avenue, Denver, CO 80204;

(4) United States Mint, 155 Hermann Street, San Francisco, CA 94102;

(5) United States Mint, West Point, NY 10996; and

(6) United States Bullion Depository, Fort Knox, KY 40121.

CATEGORIES OF INDIVIDUALS COVERED BY THE SYSTEM:

United States Mint employees, former employees, and members of the public.

CATEGORIES OF RECORDS IN THE SYSTEM:

Accident/Injury/Illness Records; Motor Vehicle Accident Data; Claims Against the Government; and Operators Training/Licensing.

AUTHORITY FOR MAINTENANCE OF THE SYSTEM:

31 U.S.C. 3701 and 3721; 5 U.S.C. chapter 81; 29 U.S.C. 668; 28 U.S.C. 2680 et seq.; 29 CFR Part 1960; 31 CFR Parts 3 and 4; E.O. 12196; E.O. 9397, as amended by E.O.13478.

PURPOSES:

The purpose of this system is to permit the United States Mint to more effectively and efficiently process and manage claims and to provide statistics that allow us to prepare mandatory reports and focus our resources to continually improve the safety of our workforce, work environment, and equipment.

ROUTINE USES OF RECORDS MAINTAINED IN THE SYSTEM, INCLUDING CATEGORIES OF USERS AND THE PURPOSES OF SUCH USES:

These records may be used to disclose information to:

(1) Appropriate federal, state, local, or foreign agencies responsible for investigating or prosecuting the violations of, or for enforcing or implementing, a statute, rule, regulation, order, or license;

(2) A federal, state, or local agency that has requested information relevant or necessary to the requesting agency's or the bureau's hiring or retention of an employee or issuance of a security clearance, license, contract, grant, or other benefit;

(3) A court, magistrate, or administrative tribunal in the course of presenting evidence, including disclosures to opposing counsel or witnesses in the course of civil discovery, litigation, or settlement negotiations, in response to a court-ordered subpoena, or in connection with criminal law proceedings;

(4) Foreign governments in accordance with international agreements;

(5) A Congressional office in response to an inquiry made at the request of the individual to whom the record pertains;

(6) The news media, at the Department of Justice's direction or approval, in accordance with guidelines contained in 28 CFR 50.2, which relate to an agency's functions relating to civil and criminal proceedings;

(7) Third parties during the course of an authorized criminal or administrative investigation;

(8) Physicians providing medical services or advice to United States Mint management and employees, or to private physicians of United States Mint employees, for the purpose of assisting in making medical diagnoses or treatment;

(9) To appropriate agencies, entities, and persons when (a) the United States Mint suspects or has confirmed that the security, confidentiality, or availability of information in the system of records has been compromised; (b) the United States Mint has determined that as a result of the suspected or confirmed compromise there is a risk of harm to economic or property interests, identity theft or fraud, or harm to the security or integrity of this system or other systems or programs (whether maintained by the United States Mint or another agency or entity) that rely upon the compromised information; and (c) the disclosure made to such agencies, entities, and persons is reasonably necessary to assist in connection with the United States Mint's efforts to respond to the suspected or confirmed compromise and prevent, minimize, or remedy such harm.

POLICIES AND PRACTICES FOR STORING, RETRIEVING, ACCESSING, RETAINING, AND DISPOSING OF RECORDS IN THE SYSTEM:

STORAGE:

Paper documents and electronic records.

RETRIEVABILITY:

By name, Social Security number, date, or location.

SAFEGUARDS:

Paper records are stored in secured filing cabinets with access only by authorized personnel. Electronic records are stored in secured systems subject to access controls in accordance with Department of the Treasury and United States Mint policies and procedures. Access to electronic records is restricted to authorized personnel, and is subject to multiple controls including an access approval process, unique user identifier, user authentication and account management, and password management.

RETENTION AND DISPOSAL:

Records are maintained and disposed of in accordance with National Archives and Records Administration (NARA) regulations, and NARA-approved General Records Control, DOL, OSHA, EPA, and United States Mint records retention schedules.

SYSTEM MANAGERS AND ADDRESSES:

(1) Chief, Human Resources Division, Chief, United States Mint Police, and Safety Officer, United States Mint, 801 9th Street NW., Washington, DC 20220;

(2) Plant Manager, United States Mint, 151 North Independence Mall East, Philadelphia, PA 19106;

(3) Plant Manager, United States Mint, 320 West Colfax Avenue, Denver, CO 80204;

(4) Plant Manager, United States Mint, 155 Hermann Street, San Francisco, CA 94102;

(5) Plant Manager, United States Mint, West Point, NY 10996; and

(6) Officer-in-Charge, United States Bullion Depository, Fort Knox, KY 40121.

NOTIFICATION PROCEDURE:

Requests from individuals wishing to be notified if they are currently named in this system of records, or seeking access to any record contained in the system of records, or seeking to contest its content, should be addressed to the head of the organizational unit having immediate custody of the records (See “System Managers and Addresses” above). Requests may be made in accordance with instructions appearing at 31 CFR Part 1, subpart C, appendix H. Requests for information or specific guidance on where to send records requests should be addressed to the following official: Disclosure Officer, United States Mint, 801 9th Street, NW., Washington, DC 20220.

The individual must submit a written request containing identification, to include at least one of the following: (a) United States Federal employee identification; (b) driver's license; (c) officially notarized statement attesting or affirming to the individual's identity; or (d) other means of identification, including Social Security number and date of birth.

RECORD ACCESS PROCEDURES:

See “Notification Procedure” above.

CONTESTING RECORD PROCEDURES:

See “Notification Procedure” above.

RECORD SOURCE CATEGORIES:

Employees, supervisors, medical staff, general public, and visitors to the facilities of the United States Mint.

EXEMPTIONS CLAIMED FOR THE SYSTEM:

None.

TREASURY/UNITED STATES MINT .005

SYSTEM NAME:

Employee-Supervisor Performance Evaluation, Counseling, and Time and Attendance Records—Treasury/United States Mint.

SYSTEM LOCATIONS:

(1) United States Mint, 801 9th Street NW., Washington, DC 20220;

(2) United States Mint, 151 North Independence Mall East, Philadelphia, PA 19106;

(3) United States Mint, 320 West Colfax Avenue, Denver, CO 80204;

(4) United States Mint, 155 Hermann Street, San Francisco, CA 94102;

(5) United States Mint, West Point, NY; and

(6) United States Bullion Depository, Fort Knox, KY 40121.

CATEGORIES OF INDIVIDUALS COVERED BY THE SYSTEM:

United States Mint employees and former employees.

CATEGORIES OF RECORDS IN THE SYSTEM:

Information necessary for managers and supervisors to effectively carry out supervisory responsibilities. Included are records such as copies of personnel actions, performance appraisals, quarterly reviews, disciplinary actions, overtime reports, tardiness reports, work assignments, alternative work schedule request forms, telecommute agreements, training reports, training requests, applications for employment, home addresses, phone numbers, leave reports, leave requests, and employee awards. (Supervisors maintain varying combinations of the above records. Some supervisors may maintain all or none of the above records depending upon the nature and size of the operation or organization and the number of individuals supervised.)

AUTHORITY FOR MAINTENANCE OF THE SYSTEM:

5 U.S.C. 301.

PURPOSES:

The purpose of this system is to permit the United States Mint to: maintain performance records used to support awards, promotions, performance-based actions, training, and other personnel actions; to track and evaluate performance based upon the accomplishments of each employee; and to accurately calculate employee leave accruals, track usage, compensate separating employees with lump sum entitlements, and bill employees who owe payment for leave taken in excess of their leave balance.

ROUTINE USES OF RECORDS MAINTAINED IN THE SYSTEM, INCLUDING CATEGORIES OF USERS AND THE PURPOSES OF SUCH USES:

These records may be used to disclose information to:

(1) Appropriate federal, state, local, or foreign agencies responsible for investigating or prosecuting the violations of, or for enforcing or implementing, a statute, rule, regulation, order, or license;

(2) A federal, state, or local agency that has requested information relevant to or necessary to the requesting agency's or the bureau's hiring or retention of an employee, or issuance of a security clearance, license, contract, grant, or other benefit;

(3) A court, magistrate, or administrative tribunal in the course of presenting evidence, including disclosures to opposing counsel or witnesses in the course of civil discovery, litigation, or settlement negotiations, in response to a court-ordered subpoena, or in connection with criminal law proceedings;

(4) Foreign governments in accordance with international agreements;

(5) A Congressional office in response to an inquiry made at the request of the individual to whom the record pertains;

(6) The news media, at the Department of Justice's direction or approval, in accordance with guidelines contained in 28 CFR 50.2, which relate to an agency's functions relating to civil and criminal proceedings;

(7) Third parties during the course of an authorized criminal or administrative investigation;

(8) To appropriate agencies, entities, and persons when (a) the United States Mint suspects or has confirmed that the security, confidentiality, or availability of information in the system of records has been compromised; (b) the United States Mint has determined that as a result of the suspected or confirmed compromise there is a risk of harm to economic or property interests, identity theft or fraud, or harm to the security or integrity of this system or other systems or programs (whether maintained by the United States Mint or another agency or entity) that rely upon the compromised information; and (c) the disclosure made to such agencies, entities, and persons is reasonably necessary to assist in connection with the United States Mint's efforts to respond to the suspected or confirmed compromise and prevent, minimize, or remedy such harm.

POLICIES AND PRACTICES FOR STORING, RETRIEVING, ACCESSING, RETAINING, AND DISPOSING OF RECORDS IN THE SYSTEM:

STORAGE:

Paper documents and electronic records.

RETRIEVABILITY:

By name.

SAFEGUARDS:

Paper records are stored in secured filing cabinets with access only by authorized personnel. Electronic records are stored in secured systems subject to access controls in accordance with Department of the Treasury and United States Mint policies and procedures. Access to electronic records is restricted to authorized personnel, and is subject to multiple controls including an access approval process, unique user identifier, user authentication and account management, and password management.

RETENTION AND DISPOSAL:

Records are maintained and disposed of in accordance with National Archives and Records Administration (NARA) regulations, and NARA-approved records retention schedules.

SYSTEM MANAGERS AND ADDRESSES:

(1) Chief, Human Resources Division, United States Mint, 801 9th Street NW., Washington, DC 20220;

(2) Plant Manager, United States Mint, 151 North Independence Mall East, Philadelphia, PA 19106;

(3) Plant Manager, United States Mint, 320 West Colfax Avenue, Denver, CO 80204;

(4) Plant Manager, United States Mint, 155 Hermann Street, San Francisco, CA 94102;

(5) Plant Manager, United States Mint, West Point, NY 10996; and

(6) Officer-in-Charge, United States Bullion Depository, Fort Knox, KY 40121.

NOTIFICATION PROCEDURE:

Requests from individuals wishing to be notified if they are currently named in this system of records, or seeking access to any record contained in the system of records, or seeking to contest its content, should be addressed to the head of the organizational unit having immediate custody of the records (See “System Managers and Addresses” above). Requests may be made in accordance with instructions appearing at 31 CFR Part 1, subpart C, appendix H. Requests for information or specific guidance on where to send records requests should be addressed to the following official: Disclosure Officer, United States Mint, 801 9th Street NW., Washington, DC 20220.

The individual must submit a written request containing identification, to include at least one of the following: (a) United States Federal employee identification; (b) driver's license; (c) officially notarized statement attesting or affirming to the individual's identity; or (d) other means of identification, including Social Security number and date of birth.

RECORD ACCESS PROCEDURES:

See “Notification Procedure” above.

CONTESTING RECORD PROCEDURES:

See “Notification Procedure” above.

RECORD SOURCE CATEGORIES:

Employees, former employers, and appropriate agency officials.

EXEMPTIONS CLAIMED FOR THE SYSTEM:

None.

TREASURY/UNITED STATES MINT .007

SYSTEM NAME:

General Correspondence—Treasury/United States Mint.

SYSTEM LOCATION:

United States Mint, 801 9th Street NW., Washington, DC 20220.

CATEGORIES OF INDIVIDUALS COVERED BY THE SYSTEM:

Members of the public, Members of Congress, United States Mint officials, and officials from other federal agencies.

CATEGORIES OF RECORDS IN THE SYSTEM:

Incoming correspondence, public comments and replies pertaining to the mission, function, and operation of the United States Mint.

AUTHORITY FOR MAINTENANCE OF THE SYSTEM:

31 U.S.C. 5131 and 5132; OMB Memorandum M-10-06.

PURPOSES:

The purpose of this system is to permit the United States Mint to respond effectively and in a timely manner to the correspondence and comments that it receives on many issues from its various stakeholders, including Members of Congress and the general public.

ROUTINE USES OF RECORDS MAINTAINED IN THE SYSTEM, INCLUDING CATEGORIES OF USERS AND THE PURPOSES OF SUCH USES:

These records may be used to disclose information to:

(1) Appropriate federal, state, local, or foreign agencies responsible for investigating or prosecuting the violations of, or for enforcing or implementing, a statute, rule, regulation, order, or license;

(2) A federal, state, or local agency that has requested information relevant to or necessary to the requesting agency's or the bureau's hiring or retention of an employee, or issuance of a security clearance, license, contract, grant, or other benefit;

(3) A court, magistrate, or administrative tribunal in the course of presenting evidence, including disclosures to opposing counsel or witnesses in the course of civil discovery, litigation, or settlement negotiations, in response to a court-ordered subpoena, or in connection with criminal law proceedings;

(4) Foreign governments in accordance with international agreements;

(5) A Congressional office in response to an inquiry made at the request of the individual to whom the record pertains;

(6) The news media, at the Department of Justice's direction or approval, in accordance with guidelines contained in 28 CFR 50.2, which relate to an agency's functions relating to civil and criminal proceedings;

(7) Third parties during the course of an authorized criminal or administrative investigation;

(8) To appropriate agencies, entities, and persons when (a) the United States Mint suspects or has confirmed that the security, confidentiality, or availability of information in the system of records has been compromised; (b) the United States Mint has determined that as a result of the suspected or confirmed compromise there is a risk of harm to economic or property interests, identity theft or fraud, or harm to the security or integrity of this system or other systems or programs (whether maintained by the United States Mint or another agency or entity) that rely upon the compromised information; and (c) the disclosure made to such agencies, entities, and persons is reasonably necessary to assist in connection with the United States Mint's efforts to respond to the suspected or confirmed compromise and prevent, minimize, or remedy such harm.

POLICIES AND PRACTICES FOR STORING, RETRIEVING, ACCESSING, RETAINING, AND DISPOSING OF RECORDS IN THE SYSTEM:

STORAGE:

Paper documents and electronic records.

RETRIEVABILITY:

By name (limited retrievability by subject or control number).

SAFEGUARDS:

Paper records are stored in secured filing cabinets with access only by authorized personnel. Electronic records are stored in secured systems subject to access controls in accordance with Department of the Treasury and United States Mint policies and procedures. Access to electronic records is restricted to authorized personnel, and is subject to multiple controls including an access approval process, unique user identifier, user authentication and account management, and password management.

RETENTION AND DISPOSAL:

Records are maintained and disposed of in accordance with National Archives and Records Administration (NARA) regulations, and NARA-approved records retention schedules.

SYSTEM MANAGER AND ADDRESS:

Executive Secretariat, United States Mint, 801 9th Street NW., Washington, DC 20220.

NOTIFICATION PROCEDURE:

Requests from individuals wishing to be notified if they are currently named in this system of records, or seeking access to any record contained in the system of records, or seeking to contest its content, should be addressed to the Executive Secretariat (See “System Manager and Address” above). Requests may be made in accordance with instructions appearing at 31 CFR Part 1, subpart C, appendix H. Requests for information or specific guidance on where to send records requests should be addressed to the following official: Disclosure Officer, United States Mint, 801 9th Street NW., Washington, DC 20220. The individual must submit a written request containing his or her name.

RECORD ACCESS PROCEDURES:

See “Notification Procedure” above.

CONTESTING RECORD PROCEDURES:

See “Notification Procedure” above.

RECORD SOURCE CATEGORIES:

The general public, Members of Congress, and other federal officials.

EXEMPTIONS CLAIMED FOR THE SYSTEM:

None.

TREASURY/UNITED STATES MINT .008

SYSTEM NAME:

Employee Background Investigations Files—Treasury/United States Mint.

SYSTEM LOCATION:

United States Mint, 801 9th Street NW., Washington, DC 20220.

CATEGORIES OF INDIVIDUALS COVERED BY THE SYSTEM:

Current and former United States Mint employees, applicants for employment, and current contractors.

CATEGORIES OF RECORDS IN THE SYSTEM:

Name of individual, location of United States Mint facility, and reports by United States Mint Police and federal government security personnel performing investigative services for the United States Mint.

AUTHORITY FOR MAINTENANCE OF THE SYSTEM:

18 U.S.C.; 40 U.S.C. 1315; 31 U.S.C. 321, 31 U.S.C. 5141 (note); 5 U.S.C. 3301, 3302; 5 CFR Parts 731 and 736; E.O. 10450, as amended; Treasury Order 101-33 (March 30, 2010).

PURPOSES:

The purpose of this system is to permit the United States Mint to collect and maintain background investigation records on applicants and current United States Mint employees and contractors for issuance of security clearances, access to United States Mint facilities, or other administrative reasons.

ROUTINE USES OF RECORDS MAINTAINED IN THE SYSTEM, INCLUDING CATEGORIES OF USERS AND THE PURPOSES OF SUCH USES:

These records may be used to disclose information to:

(1) Appropriate federal, state, local, or foreign agencies responsible for investigating or prosecuting the violations of, or for enforcing or implementing, a statute, rule, regulation, order, or license;

(2) A federal, state, or local agency that has requested information relevant to or necessary to the requesting agency's or the bureau's hiring or retention of an employee, or issuance of a security clearance, license, contract, grant, or other benefit;

(3) A court, magistrate, or administrative tribunal in the course of presenting evidence, including disclosures to opposing counsel or witnesses in the course of civil discovery, litigation, or settlement negotiations, in response to a court-ordered subpoena, or in connection with criminal law proceedings;

(4) Foreign governments in accordance with international agreements;

(5) A Congressional office in response to an inquiry made at the request of the individual to whom the record pertains;

(6) The news media at the Department of Justice's direction or approval, in accordance with guidelines contained in 28 CFR 50.2, which relate to an agency's functions relating to civil and criminal proceedings;

(7) Third parties during the course of an authorized criminal or administrative investigation;

(8) To appropriate agencies, entities, and persons when (a) the United States Mint suspects or has confirmed that the security, confidentiality, or availability of information in the system of records has been compromised; (b) the United States Mint has determined that as a result of the suspected or confirmed compromise there is a risk of harm to economic or property interests, identity theft or fraud, or harm to the security or integrity of this system or other systems or programs (whether maintained by the United States Mint or another agency or entity) that rely upon the compromised information; and (c) the disclosure made to such agencies, entities, and persons is reasonably necessary to assist in connection with the United States Mint's efforts to respond to the suspected or confirmed compromise and prevent, minimize, or remedy such harm.

POLICIES AND PRACTICES FOR STORING, RETRIEVING, ACCESSING, RETAINING, AND DISPOSING OF RECORDS IN THE SYSTEM:

STORAGE:

Paper documents and electronic records.

RETRIEVABILITY:

By name.

SAFEGUARDS:

Paper records are stored in secured filing cabinets with access only by authorized personnel. Electronic records are stored in secured systems subject to access controls in accordance with Department of the Treasury and United States Mint policies and procedures. Access to electronic records is restricted to authorized personnel, and is subject to multiple controls including an access approval process, unique user identifier, user authentication and account management, and password management.

RETENTION AND DISPOSAL:

Records are maintained and disposed of in accordance with National Archives and Records Administration (NARA) regulations, and NARA-approved records retention schedules.

SYSTEM MANAGERS AND ADDRESS:

Chief, United States Mint Police, and Chief, Human Resources Division, United States Mint, 801 9th Street NW., Washington, DC 20220.

NOTIFICATION PROCEDURE:

Requests from individuals wishing to be notified if they are currently named in this system of records, seeking access to any record contained in the system of records, or seeking to contest its content should be addressed to the System Manager named above. Requests may be made in accordance with instructions appearing at 31 CFR Part 1, subpart C, appendix H. Requests for information or specific guidance on where to send records requests should be addressed to the following official: Disclosure Officer, United States Mint, 801 9th Street NW., Washington, DC 20220.

The individual must submit a written request containing identification, to include at least one of the following: (a) United States Federal employee identification; (b) driver's license; (c) officially notarized statement attesting or affirming to the individual's identity; or (d) other means of identification, including Social Security number and date of birth.

RECORD ACCESS PROCEDURES:

See “Notification Procedure” above.

CONTESTING RECORD PROCEDURES:

See “Notification Procedure” above.

RECORD SOURCE CATEGORIES:

United States Mint and other law enforcement officials.

EXEMPTIONS CLAIMED FOR THE SYSTEM:

As authorized by 5 U.S.C. 552a(k)(2), this system is exempt from the following provisions: subsections (c)(3); (d); (e)(1); (e)(4)(G), (H) & (I); and (f) of 5 U.S.C. 552a.

TREASURY/UNITED STATES MINT .009

SYSTEM NAME:

Retail Sales System (RSS); Customer Mailing List; Order Processing Records for Coin Sets, Medals, and Numismatic Items; Records of Undelivered Orders; and Product Descriptions, Availability, and Inventory—Treasury/United States Mint.

SYSTEM LOCATION:

United States Mint, 801 9th Street NW., Washington, DC 20220.

CATEGORIES OF INDIVIDUALS COVERED BY THE SYSTEM:

Members of the public and United States Mint employees.

CATEGORIES OF RECORDS IN THE SYSTEM:

Names, addresses, phone numbers, email addresses, and order history of customers purchasing numismatic items, of individuals who wish to receive notification of numismatic offerings by the United States Mint, and of individuals requesting information and promotional materials (and their intended use of requested materials and information).

AUTHORITY FOR MAINTENANCE OF THE SYSTEM:

31 U.S.C. 5111, 5112, 5132, 5136, and 31 CFR Part 92.

PURPOSES:

The purpose of this system is to permit the United States Mint to: maintain a mailing list of customers and interested parties to provide continuous communication and promotional materials about existing and upcoming numismatic product offerings, circulating coins, and

activities; record and maintain records of customers' and interested parties' order information and requests for promotional materials; capture and process orders through each stage of the order life cycle; maintain integrity and security of orders, customer information and the system; research and resolve orders that were not successfully delivered to customers and interested parties; and maintain a list of its products and monitor and maintain product and promotional material inventory levels to meet customer and interested party demand while remaining within mandated mintage levels, as applicable.

ROUTINE USES OF RECORDS MAINTAINED IN THE SYSTEM, INCLUDING CATEGORIES OF USERS AND THE PURPOSES OF SUCH USES:

These records may be used to disclose information to:

(1) Accounting officers, managers, supervisors, and government officials with an official interest in cash receivables and debts owed the Government;

(2) Appropriate federal, state, local, or foreign agencies responsible for investigating or prosecuting the violations of, or for enforcing or implementing, a statute, rule, regulation, order, or license;

(3) A federal, state, or local agency that has requested information relevant to or necessary to the requesting agency's or the bureau's hiring or retention of an employee, or issuance of a security clearance, license, contract, grant, or other benefit;

(4) A court, magistrate, or administrative tribunal in the course of presenting evidence, including disclosures to opposing counsel or witnesses in the course of civil discovery, litigation, or settlement negotiations, in response to a court-ordered subpoena, or in connection with criminal law proceedings;

(5) Foreign governments in accordance with international agreements;

(6) A Congressional office in response to an inquiry made at the request of the individual to whom the record pertains;

(7) The news media, at the Department of Justice's direction or approval, in accordance with guidelines contained in 28 CFR 50.2, which relate to an agency's functions relating to civil and criminal proceedings;

(8) Third parties during the course of an authorized criminal or administrative investigation;

(9) Contractors performing work under a contract or agreement for the federal government, when necessary to accomplish an agency function related to this system of records, in compliance with the Privacy Act of 1974, as amended;

(10) To appropriate agencies, entities, and persons when (a) the United States Mint suspects or has confirmed that the security, confidentiality, or availability of information in the system of records has been compromised; (b) the United States Mint has determined that as a result of the suspected or confirmed compromise there is a risk of harm to economic or property interests, identity theft or fraud, or harm to the security or integrity of this system or other systems or programs (whether maintained by the United States Mint or another agency or entity) that rely upon the compromised information; and (c) the disclosure made to such agencies, entities, and persons is reasonably necessary to assist in connection with the United States Mint's efforts to respond to the suspected or confirmed compromise and prevent, minimize, or remedy such harm.

POLICIES AND PRACTICES FOR STORING, RETRIEVING, ACCESSING, RETAINING, AND DISPOSING OF RECORDS IN THE SYSTEM:

STORAGE:

Paper documents and electronic records.

RETRIEVABILITY:

Name, address, phone number, customer number or order number, order date, whether or not the account is `flagged' (such as due to an unusual quantity or an order requiring verification for processing and completion), shipment tracking number, and any internal identification number that may be assigned to the request.

SAFEGUARDS:

Paper records are stored in secured filing cabinets with access only by authorized personnel. Electronic records are stored in secured systems subject to access controls in accordance with Department of the Treasury and United States Mint policies and procedures. Access to electronic records is restricted to authorized personnel, and is subject to multiple controls including an access approval process, unique user identifier, user authentication and account management, and password management. Only those individuals requiring the information to accommodate handling of transactions with the customers can access information pertaining to an individual.

RETENTION AND DISPOSAL:

Records are maintained and disposed of in accordance with Government Accountability Office guidance, National Archives and Records Administration (NARA) regulations, and NARA-approved records retention schedules.

SYSTEM MANAGER AND ADDRESS:

Associate Director for Sales and Marketing, United States Mint, 801 9th Street, NW., Washington, DC 20220.

NOTIFICATION PROCEDURE:

Requests from individuals wishing to be notified if they are currently named in this system of records, or seeking access to any record contained in the system of records, or seeking to contest its content, should be addressed to the “System Manager and Address” described above. Requests may be made in accordance with instructions appearing at 31 CFR Part 1, subpart C, appendix H. Requests for information or specific guidance on where to send records requests should be addressed to the following official: Disclosure Officer, United States Mint, 801 9th Street, NW., Washington, DC 20220.

Individuals who have previously registered on the bureau's Web site for a customer account or electronic product notifications may access their system records online by authenticating with their valid username and password. Individuals making requests and inquiries concerning their system records must provide identification to include their name, address, telephone number, customer identification number and order number (or a combination of identifying information including order information depending on the request) which must be successfully validated in the system.

Requests by individuals to modify open orders cannot be made online or by telephone, but must be made in writing by a manually signed document accompanied by valid photo identification. Such requests must also include the individual's name, address, telephone number, customer identification number, and order number (or a combination of identifying information concerning the request including order information), which must be successfully validated in the system.

RECORD ACCESS PROCEDURES:

See “Notification Procedure” above.

CONTESTING RECORD PROCEDURES:

See “Notification Procedure” above.

RECORD SOURCE CATEGORIES:

Members of the public and government employees.

EXEMPTIONS CLAIMED FOR THE SYSTEM:

None.

Treasury/United States Mint .012

SYSTEM NAME:

Union and Agency Negotiated Grievances; Adverse Personnel Actions; Discrimination Complaints; Complaints and Actions before Arbitrators, Administrative Tribunals, and Courts (Third Parties)—Treasury/United States Mint.

SYSTEM LOCATION:

These records are located in the United States Mint's Workforce Solutions Department, its Office of Chief Counsel, and any other office within the United States Mint where an action arose. Locations at which the system is maintained are:

(1) United States Mint, 801 9th Street NW., Washington, DC 20220;

(2) United States Mint, 151 North Independence Mall East, Philadelphia, PA 19106;

(3) United States Mint, 320 West Colfax Avenue, Denver, CO 80204;

(4) United States Mint, 155 Hermann Street, San Francisco, CA 94102;

(5) United States Mint, West Point, NY 10996; and

(6) United States Bullion Depository, Fort Knox, KY 40121

CATEGORIES OF INDIVIDUALS COVERED BY THE SYSTEM:

Individuals covered by the system include employees and former employees of the United States Mint, and applicants for employment; adjudicators and legal counsel or other representatives; and other members of the public who are witnesses or complainants.

CATEGORIES OF RECORDS IN THE SYSTEM:

This system of records contains information and documents relating to grievances, including Union and Agency grievances filed pursuant to negotiated collective bargaining agreements and nonbargaining unit employee grievances. System records also contain information and documents relating to adverse personnel actions (including performance-based actions and other personnel matters) and discrimination complaints, such as witness statements, interview reports, and correspondence. The system also includes information and documents concerning actions before Third Parties where applicable, such as pleadings, findings, decisions, and exhibits.

AUTHORITY FOR MAINTENANCE OF THE SYSTEM:

5 U.S.C. 1302, 5 U.S.C. 7701 and 7702; 5 U.S.C. Ch. 75; and 5 U.S.C. Ch. 71. E.O.'s. 11491, 11616, 11636, 11838, 11901, 12027, and 12107; 29 CFR 1614; and negotiated agreements between the United States Mint and exclusively recognized labor unions.

PURPOSES:

The purpose of this system is to permit the United States Mint to (1) support actions that fall under Title 5 or Title 42 of the United States Code; (2) track, manage and maintain grievances, adverse personnel actions and discrimination complaints; (3) maintain accurate statistical data for mandated reports; (4) enforce decisions and judgments; and (5) maintain historical reference information to ensure consistency of its personnel actions.

ROUTINE USES OF RECORDS MAINTAINED IN THE SYSTEM, INCLUDING CATEGORIES OF USERS AND THE PURPOSES OF SUCH USES:

These records may be used to disclose information to:

(1) Appropriate federal, state, local, or foreign agencies responsible for investigating or prosecuting the violations of, or for enforcing or implementing, a statute, rule, regulation, order, or license;

(2) A federal, state, or local agency that has requested information relevant to or necessary to the requesting agency's or the bureau's hiring or retention of an employee or issuance of a security clearance, license, contract, grant, or other benefit;

(3) A court, magistrate, or administrative tribunal in the course of presenting evidence, including disclosures to opposing counsel or witnesses in the course of civil discovery, litigation, or settlement negotiations, in response to a court-ordered subpoena, or in connection with criminal law proceedings;

(4) A Congressional office in response to an inquiry made at the request of the individual to whom the record pertains;

(5) The news media, at the Department of Justice's direction or approval, in accordance with guidelines contained in 28 CFR 50.2, which relate to an agency's functions relating to civil and criminal proceedings;

(6) Unions recognized as exclusive bargaining representatives under the Civil Service Reform Act of 1978, 5 U.S.C. 7111 and 7114;

(7) Third parties during the course of an authorized criminal or administrative investigation;

(8) To appropriate agencies, entities, and persons when (a) the United States Mint suspects or has confirmed that the security, confidentiality, or availability of information in the system of records has been compromised; (b) the United States Mint has determined that as a result of the suspected or confirmed compromise there is a risk of harm to economic or property interests, identity theft or fraud, or harm to the security or integrity of this system or other systems or programs (whether maintained by the United States Mint or another agency or entity) that rely upon the compromised information; and (c) the disclosure made to such agencies, entities, and persons is reasonably necessary to assist in connection with the United States Mint's efforts to respond to the suspected or confirmed compromise and prevent, minimize, or remedy such harm.

POLICIES AND PRACTICES FOR STORING, RETRIEVING, ACCESSING, RETAINING, AND DISPOSING OF RECORDS IN THE SYSTEM:

STORAGE:

Paper documents and electronic records.

RETRIEVABILITY:

Records may be retrieved by the names of the individuals on whom they are maintained, by case number, or by the subject or date of the action.

SAFEGUARDS:

Paper records are stored in secured filing cabinets with access only by authorized personnel. Electronic records are stored in secured systems subject to access controls in accordance with Department of the Treasury and United States Mint policies and procedures. Access to electronic records is restricted to authorized personnel, and is subject to multiple controls including an access approval process, unique user identifier, user authentication and account management, and password management.

RETENTION AND DISPOSAL:

Records are maintained and disposed of in accordance with National Archives and Records Administration (NARA) regulations, and NARA-approved records retention schedules.

SYSTEM MANAGERS AND ADDRESSES:

(1) Chief, Human Resources Division, United States Mint, 801 9th Street NW., Washington, DC 20220;

(2) Plant Manager, United States Mint, 151 North Independence Mall East, Philadelphia, PA 19106;

(3) Plant Manager, United States Mint, 320 West Colfax Avenue, Denver, CO 80204;

(4) Plant Manager, United States Mint, 155 Hermann Street, San Francisco, CA 94102;

(5) Plant Manager, United States Mint, West Point, NY 10996; and

(6) Officer-in-Charge, United States Bullion Depository, Fort Knox, KY 40121.

NOTIFICATION PROCEDURE:

Individuals who have filed a grievance, appeal, or complaint about a United States Mint decision or determination or about conditions existing in the United States Mint already have been provided a copy of the record. The contest, amendment, or correction of a record is permitted during the prosecution of the action to whom the record pertains. After a case has been closed, however, requests from individuals wishing to be notified if they are named in this system of records, seeking access to any record contained in the system of records, or seeking to contest its content should be addressed to the head of the organizational unit having immediate custody of the records (See “System Managers and Addresses” above). Requests may be made in accordance with instructions appearing at 31 CFR Part 1, subpart C, appendix H. Requests for information or specific guidance on where to send records requests should be addressed to the following official: Disclosure Officer, United States Mint, 801 9th Street, NW., Washington, DC 20220.

The individual must submit a written request with information sufficient to verify the identity of the requester such as full name, date of birth, a brief description of the grievance, and the approximate date of submission.

RECORD ACCESS PROCEDURES:

See “Notification Procedure” above.

CONTESTING RECORD PROCEDURES:

See “Notification Procedure” above.

RECORD SOURCE CATEGORIES:

The sources of these records are as follows: (a) individuals to whom the record pertains; (b) Agency officials; (c) affidavits or statements from employees and third parties; (d) testimony of witnesses; (e) official documents and correspondence relating to the grievance.

EXEMPTIONS CLAIMED FOR THE SYSTEM:

None.

[FR Doc. 2013-00191 Filed 1-7-13; 8:45 am]

BILLING CODE 4810-37-P